GENERAL SERVICES ADMINISTRATION

Federal Supply Service

GSA Standard Tender of Service (STOS), GSA National Rules Tender No. 100-D, Item 1300, Fuel Related General Rate Adjustment (FRGRA)

AGENCY: Federal Supply Service, GSA.

ACTION: Notice of final issuance of amendment to Item 1300 of the GSA STOS.

SUMMARY: The General Services Administration (GSA) is issuing in final an amendment to Item 1300, “Fuel Related General Rate Adjustment” (FRGRA), of GSA National Rules Tender No. 100-D, which is a part of the GSA STOS. This amendment was publised in the Federal Register for comment on May 23, 2002 (67 FR 36192), and comments were due by June 24, 2002. GSA received one comment. The comment was from the Government Relations Committee of the National Motor Freight Traffic Association, Inc., and supported implementation of the fuel related surcharge. Item 1300 therefore is implemented as published in the attachment to 67 FR 36192, and may be accessed at http://www.kc.gsa.gov/fsstt/FRT/stos.htm.

FOR FURTHER INFORMATION CONTACT: Mr. Raymond Price, Transportation Programs Branch, by phone at 703-305-7536, or by e-mail at raymond.price@gsa.gov.

Dated: September 10, 2002.
Tauna T. Delmonico,
Director, Travel and Transportation Management Division.

[FR Doc. 02-23553 Filed 9-16-02; 8:45 am]

BILLING CODE 6820-24-M